DEPARTMENT OF THE TREASURY

United States Mint

Pricing for 2012 America the Beautiful Quarters® Products and American Eagle Silver Dollars

AGENCY: United States Mint, Department of the Treasury.

ACTION: Notice.

SUMMARY: The United States Mint is announcing 2012 pricing for America the Beautiful Quarters® products and American Eagle Silver Proof and Uncirculated Coins, as follows:

Product | Retail price
America the Beautiful Quarters Three-Coin Sets ™ | $9.95
America the Beautiful Quarters Uncirculated Coin Set ™ | 12.95
America the Beautiful Quarters Circulating Coin Set ™ | 5.95
America the Beautiful Five Ounce Silver Uncirculated Coin | 204.95
American Eagle Silver Proof Coin | 61.95
American Eagle Silver Uncirculated Coin | 45.95

FOR FURTHER INFORMATION CONTACT: B.B. Craig, Associate Director for Sales and Marketing; United States Mint; 801 9th Street NW., Washington, DC 20220; or call (202) 354-7500.

Authority: 31 U.S.C. 5111, 5112 & 9701.

Dated: December 30, 2011.
Al Runnels,
Acting Chief of Staff, United States Mint.

[FR Doc. 2012-29 Filed 1-5-12; 8:45 am]

BILLING CODE 4810-02-P